DEPARTMENT OF COMMERCE

National Oceanic and Atmospheric Administration

50 CFR Part 635

[Docket No. 210510-0103]

RIN 0648-BI08

Atlantic Highly Migratory Species; Atlantic Bluefin Tuna Fisheries Management; Extension of Comment Period

AGENCY: National Marine Fisheries Service (NMFS), National Oceanic and Atmospheric Administration (NOAA), Commerce.

ACTION: Proposed rule; extension of comment period.

SUMMARY: On May 21, 2021, NMFS published the proposed rule for Draft Amendment 13 to the 2006 Consolidated Highly Migratory Species (HMS) Fishery Management Plan (FMP) to modify management measures applicable to the incidental and directed bluefin fisheries. In the proposed rule, NMFS announced a 60-day comment period ending on July 20, 2021. During a public webinar, the Blue Water Fishermen's Association requested that NMFS extend the comment period to provide additional opportunities for the public and other interested parties to consider and comment on the proposed measures and related analyses. NMFS is extending the comment period for this action until September 20, 2021. NMFS will consider comments received on the proposed rule in determining whether and how to implement final management measures.

DATES: The comment period for the proposed rule published May 21, 2021, at 86 FR 27686, is extended. Comments should be received on or before September 20, 2021.

ADDRESSES: You may submit comments on the proposed rule, as published on May 21, 2021 (86 FR 27686), identified by “NOAA-NMFS-2019-0042,” by electronic submission. Submit all electronic public comments via the Federal e-Rulemaking Portal. Go to https://www.regulations.gov/docket/NOAA-NMFS-2019-0042, click the “Comment” icon, complete the required fields, and enter or attach your comments. Comments sent by any other method, to any other address or individual, or received after the close of the comment period, may not be considered by NMFS. All comments received are a part of the public record and generally will be posted for public viewing on www.regulations.gov without change. All personal identifying information (e.g., name, address), confidential business information, or otherwise sensitive information submitted voluntarily by the sender will be publicly accessible. NMFS will accept anonymous comments (enter “N/A” in the required fields if you wish to remain anonymous). Attachments to electronic comments will be accepted in Microsoft Word, Excel, or Adobe PDF file formats only. Written comments regarding the burden-hour estimates or other aspects of the collection-of-information requirements contained in this proposed rule may also be submitted via www.reginfo.gov/public/do/PRAMain. Find this particular information collection by selecting “Currently under Review—Open for Public Comments” or by using the search function.”

Copies of the supporting documents—including the draft environmental impact statement (DEIS), Regulatory Impact Review (RIR), Initial Regulatory Flexibility Analysis (IRFA), the Three-Year Review of the IBQ Program, and the 2006 Consolidated HMS FMP and amendments are available from the HMS website at https://www.fisheries.noaa.gov/topic/atlantic-highly-migratory-species or by contacting Tom Warren (Thomas.Warren@noaa.gov).

FOR FURTHER INFORMATION CONTACT: Tom Warren—(978) 281-9260 (Thomas.Warren@noaa.gov) or Karyl Brewster-Geisz—(301) 427-8503 (Karyl.Brewster-Geisz@noaa.gov).

SUPPLEMENTARY INFORMATION: The Atlantic bluefin tuna fisheries are managed under the dual authority of the Magnuson-Stevens Fishery Conservation and Management Act (Magnuson-Stevens Act) and the Atlantic Tunas Convention Act (ATCA). The 2006 Consolidated HMS FMP and its amendments are implemented by regulations at 50 CFR part 635. A brief summary of the background of this proposed rule is provided below. Additional information regarding bluefin tuna management can be found in the proposed rule (86 FR 27686; May 21, 2021), the DEIS accompanying the proposed rule, the 2006 Consolidated HMS FMP and its amendments, the annual HMS Stock Assessment and Fishery Evaluation (SAFE) Reports, and online at: https://www.fisheries.noaa.gov/topic/atlantic-highly-migratory-species.

On May 21, 2021 (86 FR 27686), NMFS published Draft Amendment 13 to the 2006 Consolidated Highly Migratory Species (HMS) Fishery Management Plan (FMP), proposing to modify management measures applicable to the incidental and directed bluefin fisheries. As described in the proposed rule, the measures would make several changes to the Individual Bluefin Quota (IBQ) Program in the pelagic longline fishery for Atlantic HMS. Proposed changes included the distribution of IBQ shares only to active vessels, implementation of a cap on IBQ shares that may be held by an entity, and implementation of a cost recovery program. The proposed measures would also make changes to directed bluefin fisheries by discontinuing the Purse Seine category and reallocating that bluefin quota to other directed quota categories; capping Harpoon category daily bluefin landings; modifying the recreational trophy bluefin areas and subquotas; modifying regulations regarding electronic monitoring of the pelagic longline fishery as well as green-stick use; and modifying the regulation regarding permit category changes.

Blue Water Fishermen's Association requested the comment period be extended at the July 8, 2021, public webinar. In their request they noted that the HMS Advisory Panel had insufficient time to review the DEIS between its release on May 21, 2021, and the Spring HMS Advisory Panel meeting on May 25 through 27, 2021. They were also concerned that NMFS' presentation to the HMS Advisory Panel did not include all of the alternatives analyzed in the DEIS and that there was insufficient time during the meeting to fully discuss the proposed measures, the alternatives, and their impacts. After considering the request and in light of similar comments the Spring HMS Advisory Panel meeting, NMFS has determined that it is reasonable to extend the comment period to enable the HMS Advisory Panel to further discuss Amendment 13 at its Fall 2021 meeting in September and to allow additional opportunities for public comment. Therefore, NMFS is extending the comment period until September 20, 2021. This revised comment period allows time for HMS Advisory Panel members, the regulated community, and the general public to further consider the rulemaking documents, and the analyses, data, and conclusions relevant to the proposed management measures in them, and to provide comments to NMFS. NMFS will consider these comments in determining which final management measures to implement.

Authority: 16 U.S.C. 971 et seq.; 16 U.S.C. 1801 et seq.

Dated: July 13, 2021.
Samuel D. Rauch, III,
Deputy Assistant Administrator for Regulatory Programs, National Marine Fisheries Service.

[FR Doc. 2021-15374 Filed 7-19-21; 8:45 am]

BILLING CODE 3510-22-P